DEPARTMENT OF AGRICULTURE

Forest Service

Beaverhead-Deerlodge National Forest Land and Resource Management Plan Revision. Beaverhead-Deerlodge National Forest in Beaverhead, Butte-Silver Bow; Anaconda-Deer Lodge, Granite, Jefferson, Powell, Madison and Gallatin Counties, MT

AGENCY: Forest Service, USDA.

ACTION: Notice of intent to prepare an Environmental Impact Statement.

SUMMARY: The USDA, Forest Service, Beaverhead-Deerlodge National Forest, will prepare an Environmental Impact Statement (EIS) to document the analysis and disclose the environmental impacts of the proposed action to revise and combine Land and Resource Management Plans for the Beaverhead and Deerlodge National Forests. The proposal seeks to integrate resource management and incorporate larger place-based management areas. A Notice of Intent was published May 3, 2002, in the Federal Register, Vol. 67, No. 86, p. 22396. This is a revision of that notice in order to provide a detailed proposed action for public review and comment.

PUBLIC INVOLVEMENT: The public is invited to comment on the Proposed Action or meet with Marty Gardner at any point in time during the 90-day comment period beginning on August 22, 2003. Contact Marty at (406) 683-3680 or e-mail mgardner@fs.fed.us, to schedule a meeting. To get on the mailing list contact Jack Degolia (406) 683-3984, or e-mail jdegolia@fs.fed.us.

DATES: Initial comments concerning the proposed action should be received in writing, no later than 90 days from the publication of this notice of intent.

ADDRESSES: Please send comments to Herrera Environmental Consultants, 101 E. Broadway, Missoula, MT 59802. Comments may also be electronically submitted to shopkins@herrerainc.com.

FOR FURTHER INFORMATION CONTACT: Marty Gardner, Interdisciplinary Team Leader, Beaverhead-Deerlodge National Forest, 420 Barrett, Dillon, MT 59725, phone (406) 683-3860, or e-mail mgardner@fs.fed.us.

Responsible Official: Bradley E. Powell, Regional Forest, Northern Region, 200 E. Broadway, Missoula, MT 59807

SUPPLEMENTARY INFORMATION: We are revising the original Notice of Intent (Federal Register, Vol. 67, No. 86, page 22396, May 3, 2002), in order to provide a detailed proposed action for public review and comment. We are coordinating efforts with the Bureau of Land Management, Tribes, Montana Fish, Wildlife, and Parks as well as County Commissioners. In order to generate meaningful dialogue with the public we hope to meet with any interested groups or individuals upon request. To request a presentation for meetings at any time during the analysis and prior to the Draft Environmental Impact Statement call Marty Gardner at (406) 683-3860 or e-mail mgardner@fs.fed.us. We plan no formal public hearings at this time.

To assist the Forest Service with identification and consideration of issues and concerns regarding the proposed action, comments should be as specific as possible. It is also helpful if comments refer to specific pages or sections of the proposed action. Reviewers may wish to refer to the Council on Environmental Quality Regulations for implementation of procedural provisions of the National Environmental Policy Act at 40 CFR 1503.3.

Additional public comment will be accepted after publication of the DEIS anticipated by December 2004. The Environmental Protection Agency will publish the Notice of Availability of the Draft Environmental Impact Statement in the Federal Register. The Forest will also publish a legal notice of availability in the Montana Standard Newspaper, Butte, Montana. The comment period on the Draft EIS will begin the day after the legal notice is published. The Final EIS and Decision are expected late in 2005.

Dated: August 6, 2003.
Bradley E. Powell,
Regional Forester.

[FR Doc. 03-20989 Filed 8-21-03; 8:45 am]

BILLING CODE 3410-11-M